DEPARTMENT OF JUSTICE

Notice of Lodging of Proposed Consent Decree Under the Comprehensive Environmental Response, Compensation and Liability Act

On March 1, 2021, the Department of Justice lodged a proposed Consent Decree with the United States District Court for the District of Idaho in the lawsuit entitled United States et al. v. P4 Production, L.L.C., Civil Action No. 4:21-cv-92.

The proposed Consent Decree would resolve claims the United States and the State of Idaho have brought pursuant to Sections 106 and 107 of the Comprehensive Environmental Response, Compensation, and Liability Act (“CERCLA”), 42 U.S.C. 9606 and 9607 and the Idaho Environmental Protection and Health Act, Idaho Code § 39-101, et seq., against Defendant P4 Production, L.L.C. (“P4”) concerning the Ballard Mine Superfund Site (“Site”) in Caribou County, Idaho. The Shoshone-Bannock Tribes (“the Tribes”) have filed their own complaint regarding the Site.

Under the proposed Consent Decree, current owner P4 agrees to perform the remedial action selected in EPA's 2019 Record of Decision. It will also pay the Plaintiffs' future response costs, $334,972 in reimbursement of EPA's past response costs, and $10,800 in reimbursement of the Tribes' past response costs. In exchange, P4 receives covenants-not-to-sue for all work completed and costs paid.

The publication of this notice opens a period for public comment on the Consent Decree. Comments should be addressed to the Assistant Attorney General, Environment and Natural Resources Division, and should refer to United States et al. v. P4 Production, L.L.C., D.J. Ref. No. 90-11-2-07884/7. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $57.25 (25 cents per page reproduction cost) payable to the United States Treasury. For a paper copy without the exhibits, the cost is $11.50.

Susan M. Akers,
Assistant Section Chief, Environmental Enforcement Section, Environment and Natural Resources Division.

[FR Doc. 2021-04597 Filed 3-4-21; 8:45 am]

BILLING CODE 4410-15-P